NUCLEAR REGULATORY COMMISSION

Sunshine Act Meetings

AGENCY HOLDING THE MEETING: Nuclear Regulatory Commission.

DATE: Weeks of August 28, September 4, 11, 18, 25, and October 2, 2000.

PLACE: Commissioners' Conference Room, 11555 Rockville Pike, Rockville, Maryland.

STATUS: Public and Closed.

MATTERS TO BE CONSIDERED:

Week of August 28

There are no meetings scheduled for the Week of August 28.

Week of September 4—Tentative

There are no meetings scheduled for the Week of September 4.

Week of September 11—Tentative

There are no meetings scheduled for the Week of September 11.

Week of September 18—Tentative

There are no meetings scheduled for the Week of September 18.

Week of September 25—Tentative

Friday, September 29

9:25 a.m.

Affirmative Session (Public Meeting) (If needed)

9:30 a.m.

Briefing on Risk-Informing Special Treatment Requirements (Public Meeting) (Contact: Tim Reed, 301-415-1462)

1:30 p.m.

Briefing on Threat Environment Assessment (Closed—Ex. 1)

Week of October 2—Tentative

Friday, October 6

9:25 a.m.

Affirmation Session (Public Meeting) (If needed)

9:30 a.m.

Meeting with ACRS (Public Meeting) (Contact: John Larkins, 301-415-7360)

___

* THE SCHEDULE FOR COMMISSION MEETINGS IS SUBJECT TO CHANGE ON SHORT NOTICE. TO VERIFY THE STATUS OF MEETINGS CALL (RECORDING)—(301) 415-1292. CONTACT PERSON FOR MORE INFORMATION: Bill Hill (301) 415-1661.

* * * * *

ADDITIONAL INFORMATION: By a vote of 5-0 on August 21, the Commission determined pursuant to U.S.C. 552b(e) and § 9.107(a) of the Commission's rules that “Affirmation of HYDRO RESOURCES, INC. Motion for Partial Reconsideration of CLI-00-08” be held on August 21, and on less than one week's notice to the public.

By a vote of 5-0 on August 21, the Commission determined pursuant to U.S.C. 552b(e) and § 9.107(a) of the Commission's rules that “Discussion of Intragovernmental Issues (Closed Ex. 4 and 9)” be held on August 21, and on less than one week's notice to the public.

By a vote of 5-0 on August 24, the Commission determined pursuant to U.S.C. 552b(e) and § 9.107(a) of the Commission's rules that “Affirmation of Proposed License to Export Highly Enriched Uranium to the Netherlands for Use as Fuel in the High Flux Reactor in Petten (Application No. XSNM02611—Revised)” be held on August 24, and on less than one week's notice to the public.

* * * * *

The NRC Commission Meeting Schedule can be found on the Internet at:

http://www.nrc.gov/SECY/smj/schedule.htm

* * * * *

This notice is distributed by mail to several hundred subscribers; if you no longer wish to receive it, or would like to be added to it, please contact the Office of the Secretary, Attn: Operations Branch, Washington, D.C. 20555 (301-415-1661). In addition, distribution of this meeting notice over the Internet system is available. If you are interested in receiving this Commission meeting schedule electronically, please send an electronic message to wmh@nrc.gov or dkw@nrc.gov.

Dated: August 25, 2000.
William M. Hill, Jr.,
SECY Tracking Officer, Office of the Secretary.

[FR Doc. 00-22320 Filed 8-28-00; 1:12 pm]

BILLING CODE 7590-01-M